FEDERAL COMMUNICATIONS COMMISSION

Notice of Public Information Collection(s) being Reviewed by the Federal Communications Commission, Comments Requested

June 3, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 11, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov .

SUPPLEMENTARY INFORMATION: OMB Control No.: 3060-1004.

Title: Wireless Telecommunications Bureau Standardizes Carrier Reporting on Wireless E911 Implementation.

Form No.: N/A.

Type of Review: Revision of a currently approved collection.

Respondents: Business or other for-profit, not-for-profit institutions, and state, local or tribal government.

Number of Respondents: 251 respondents, 303 responses.

Estimated Time Per Response: 5 hours (Tier II Reports), 4 hours (Tier III Reports).

Frequency of Response: Quarterly, semi-annual and one-time reporting requirements, recordkeeping requirement.

Total Annual Burden: 1,282 hours.

Total Annual Cost: N/A.

Needs and Uses: Nationwide wireless carriers (Tier I) generally must file quarterly reports with the Commission on February 1, May 1, August 1 and November 1 of each year. Mid-sized wireless carriers (Tier II) also are required to file quarterly reports under this same time schedule. A format for the submission of the quarterly reports is being established to require that beginning with the August 1, 2003 filing, Tier I and II carriers must include with their quarterly reports an Excel spreadsheet detailing certain elements related to E911 implementation status at requesting Public Service Answering Points (PSAPs). Small wireless carriers (Tier III) are not required to submit the spreadsheet with their E911 interim reports, which are due on August 1, 2003, as a one-time filing.

The quarterly reports will continue to be used by the Commission to monitor carrier progress in transition to E911. The Bureau is establishing the format of the data to be submitted in order to permit the Commission to track wireless E911 deployment in a more uniform and consistent manner, as well as to assist E911 stakeholders in coordinating their deployment efforts.

Federal Communications Commission.
William F. Caton,
Deputy Secretary.

[FR Doc. 03-14481 Filed 6-10-03; 8:45 am]

BILLING CODE 6712-01-P